DEPARTMENT OF AGRICULTURE

Food and Nutrition Service

Agency Information Collection Activities: Proposed Collection; Comment Request: Food Stamp Program: State Issuance and Participation Estimates—Form FNS-388

AGENCY: Food and Nutrition Service, USDA.

ACTION: Notice.

SUMMARY: In accordance with the Paperwork Reduction Act of 1995, the Food and Nutrition Service (FNS) is publishing for public comment a summary of a proposed information collection. The proposed collection is a revision of a collection currently approved under OMB No. 0584-0081 for the Food Stamp Program for the form FNS-388, State Issuance and Participation Estimates.

DATES: Comments on this notice must be received by January 26, 2007 to be assured of consideration.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology.

Send comments and requests for copies of this information collection to Barbara Hallman, Chief, State Administration Branch, Food Stamp Program, Food and Nutrition Service, USDA, 3101 Park Center Drive, Alexandria, VA 22302. Copies of the estimate of the information collection can be obtained by contacting Ms. Hallman.

All comments will be summarized and included in the request for Office of Management and Budget approval of the information collection. All comments will become a matter of public record.

FOR FURTHER INFORMATION CONTACT: Barbara Hallman at (703) 305-2383.

SUPPLEMENTARY INFORMATION: Title: Form FNS-388, State Issuance and Participation Estimates.

OMB Number: 0584-0081.

Expiration Date: 1/31/2007.

Type of Request: Revision of a currently approved information collection.

Abstract: Section 18(b) of the Food Stamp Act, (the Act) 7 U.S.C. 2027(b), limits the value of allotments paid to food stamp households to an amount not in excess of the appropriation for the fiscal year. If allotments in any fiscal year would exceed the appropriation, the Secretary of Agriculture is required to direct State agencies to reduce the value of food stamp allotments to the extent necessary to stay within appropriated funding limits. Timely State monthly issuance estimates are necessary for FNS to ensure that it remains within the appropriation. The estimates will also have a direct effect upon the manner in which allotments would be reduced if necessary. While benefit reductions have never been ordered in the past under Section 18(b) nor are they anticipated based on current data, the Department must continue to monitor actual program costs against the appropriation.

Section 11(e)(12) of the Food Stamp Act, 7 U.S.C. 2020 (e)(12), requires that the State Plan of Operations provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to monitor actual and estimated costs for all benefit types against the appropriation.

State agencies in general only submit one Statewide FNS-388 per month which covers benefits from their electronic benefit transfer (EBT) system. The exception is that State agencies which choose to operate an approved alternative issuance demonstration project such as a cash-out system submit a separate report for each additional type of issuance system. There has been a small increase in these issuance demonstration and operation projects since the last information collection submission.

In addition, State agencies are required to submit a project area breakdown on the FNS-388A of issuance and participation data twice a year. This data is useful in identifying project areas that operate fraud detection units in accordance with the Act.

As of June 2006, 90 percent of the total responses submitted the FNS-388 data electronically and 10 percent submitted paper reports. As of March 2006, the last time the FNS-388A was submitted, 73 percent of the total response submitted FNS-388A data electronically and 27 percent submitted paper reports.

Respondents: State agencies that administer the Food Stamp Program.

Estimated Number of Respondents: 53.

Estimated Number of Responses per Respondent: 13.81

Estimated Hours per Response: 7.14

Estimated Total Annual Burden on Respondents: The annual reporting and recordkeeping burden for OMB No. 0584-0081 is estimated to be 5,226 hours. This is an increase of 683.7 hours due to an increase in the number of responses from State agencies.

Dated: November 17, 2006.
Roberto Salazar,
Administrator.

[FR Doc. E6-19986 Filed 11-24-06; 8:45 am]

BILLING CODE 3410-30-P